DEPARTMENT OF ENERGY

Federal Energy Regulatory Commission

[Docket No. ER02-2001-000]

Electric Quarterly Reports; Notice of Electric Quarterly Reports Regional Outreach Meeting

November 2, 2004.

The FERC Electric Quarterly Reports (EQR) staff has scheduled a regional outreach meeting to be held in conjunction with a PJM EQR data mapping session. On Monday, November 15, 2004, FERC EQR staff will hold an EQR Outreach Session for PJM filers in conjunction with a meeting hosted by the PJM ISO the next day. Both meetings will be held at the Wyndham Wilmington Hotel in Wilmington, DE. The FERC EQR Outreach Session will run from 1 p.m. to 5 p.m. (EST) on Monday. FERC EQR staff will discuss general ISO data mapping issues and address any other EQR questions or problems that filers have. Tuesday's PJM EQR Data Mapping meeting will address the details of mapping PJM settlement items to EQR product names. Interested individuals should bring someone from their company who is familiar with the PJM operations and settlement statements.

Participants should register for each meeting separately. Those who would like to participate in the November 15th FERC EQR Outreach Session are asked to register online at FERC by Thursday, November 11, 2004, at http://www.ferc.gov/whats-new/registration/eqr-1115-form.asp. Registration information for the November 16th PJM EQR Data Mapping meeting can be found at http://www.pjm.com/committees/form-eqrom-attend.html.

Persons wishing to file comments may do so under the above-captioned Docket Number. Those filings will be available for review at the Commission or may be viewed on the Commission's Web site at http://www.ferc.gov, using the “eLibrary” link. For assistance, contact FERC Online Support at FERCOnlineSupport@ferc.gov or via phone at (866) 208-3676 (toll-free). For TTY, contact (202) 502-8659.

For additional information, please contact Mark Blazejowski of FERC's Office of Market Oversight and Investigations at (202) 502-6055 or by e-mail, mark.blazejowski@ferc.gov.

Magalie R. Salas,
Secretary.

[FR Doc. E4-3091 Filed 11-9-04; 8:45 am]

BILLING CODE 6717-01-P